DEPARTMENT OF COMMERCE

National Oceanic and Atmospheric Administration

[I.D. 091701F]

Mid-Atlantic Fishery Management Council; Public Meeting

AGENCY: National Marine Fisheries Service (NMFS), National Oceanic and Atmospheric Administration (NOAA), Commerce.

ACTION: Notice of public meeting.

SUMMARY: The Mid-Atlantic Fishery Management Council’s (Council) Comprehensive Management Committee will hold a public meeting.

DATES: The meeting will be held on Thursday, October 4, 2001, from 10 a.m. until 5 p.m.

ADDRESSES: This meeting will be held at the Marriott BWI Hotel, 1743 West Nursery Road, Baltimore, MD 21240; telephone: 410-859-8300.

Council address: Mid-Atlantic Fishery Management Council, Room 2115, 300 S. New Street, Dover, DE 19904.

FOR FURTHER INFORMATION CONTACT: Daniel T. Furlong, Executive Director, Mid-Atlantic Fishery Management Council; telephone: 302-674-2331, ext. 19.

SUPPLEMENTARY INFORMATION: The purpose of this meeting is to receive an orientation from NMFS Northeast Regional Office’s Grants Office officials regarding: the technical review of proposals received in response to the Council’s quota set-aside Request for Proposal (RFP); the review process to be used to rate accepted proposals; and the schedule of events regarding the rating phase, up to the award of quota set-asides. Initial individual reviews of applications will be conducted for demonstration and other purposes, as appropriate.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Joanna Davis at the Council Office (see ADDRESSES) at least 5 days prior to the meeting date.

Dated: September 17, 2001.
Richard W. Surdi,
Acting Director, Office of Sustainable Fisheries, National Marine Fisheries Service.

[FR Doc. 01-23681 Filed 9-20-01; 8:45 am]

BILLING CODE 3510-22-S